DEPARTMENT OF ENERGY

Federal Energy Regulatory Commission

[Project No. 2742-039]

Copper Valley Electric Association, Inc.; Notice of Intent To File License Application, Filing of Pre-Application Document, and Approving Use of the Traditional Licensing Process

a. Type of Filing: Notice of Intent to File License Application and Request to Use the Traditional Licensing Process.

b. Project No.: 2742-039.

c. Date Filed: April 28, 2023.

d. Submitted By: Copper Valley Electric Association, Inc. (CVEA).

e. Name of Project: Solomon Gulch Hydroelectric Project.

f. Location: On Solomon Lake and Solomon Gulch Creek, in the Chugach Census Area, in Valdez, Alaska. The project occupies Federal lands under the jurisdiction of the U.S. Bureau of Land Management.

g. Filed Pursuant to: 18 CFR 5.3 of the Commission's regulations.

h. Potential Applicant Contact: Coreen Palacios, Copper Valley Electric, P.O. Box 45, Mile 187 Glenn Highway, Glenallen, AK 99588; (907) 822-8301; email—CPalacios@cvea.org.

i. FERC Contact: Lauren Townson at (202) 502-8572; or email at Lauren.Townson@ferc.gov.

j. CVEA filed a request to use the Traditional Licensing Process on April 28, 2023. CVEA provided public notice of its request on April 27, 2023. In a letter dated June 23, 2023, the Director of the Division of Hydropower Licensing approved CVEA's request to use the Traditional Licensing Process.

k. With this notice, we are initiating informal consultation with the U.S. Fish and Wildlife Service and/or NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the Alaska State Historic Preservation Officer, as required by section 106, National Historic Preservation Act, and the implementing regulations of the Advisory Council on Historic Preservation at 36 CFR 800.2.

l. With this notice, we are designating CVEA as the Commission's non-Federal representative for carrying out informal consultation pursuant to section 7 of the Endangered Species Act and section 305(b) of the Magnuson-Stevens Fishery Conservation and Management Act; and consultation pursuant to section 106 of the National Historic Preservation Act.

m. CVEA filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field to access the document. At this time, the Commission has suspended access to the Commission's Public Reference Room. For assistance, contact FERC at FERCOnlineSupport@ferc.gov or call toll free, (886) 208-3676 or TTY (202) 502-8659.

o. The licensee states its unequivocal intent to submit an application for a new license for Project No.2742-039. Pursuant to 18 CFR 16.8, 16.9, and 16.10 each application for a new license and any competing license applications must be filed with the Commission at least 24 months prior to the expiration of the existing license. All applications for license for this project must be filed by May 31, 2026.

p. Register online at http://www.ferc.gov/docs-filing/esubscription.asp to be notified via email of new filing and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: June 23, 2023.
Debbie-Anne A. Reese,
Deputy Secretary.

[FR Doc. 2023-13838 Filed 6-28-23; 8:45 am]

BILLING CODE 6717-01-P